DEPARTMENT OF TRANSPORTATION

Federal Highway Administration

Notice of Availability of the Mid County Parkway Draft Environmental Impact Report/Environmental Impact Statement

DATE: October 2008.

AGENCY: United States Department of Transportation, Federal Highway Administration.

ACTION: Notice of Availability (NOA) of a Draft Environmental Impact Report/Environmental Impact Statement (EIR/EIS).

SUMMARY: The Riverside County Transportation Commission (RCTC), the Federal Highway Administration (FHWA), and California Department of Transportation (Caltrans) announce the availability of the Mid County Parkway (MCP) Draft Environmental Impact Report/Environmental Impact Statement (EIR/EIS) that evaluates the environmental effects of the proposed MCP project. The MCP project will construct a new west-east parkway between Interstate 15 (I-15) on the west and State Route 79 (SR-79) on the east which will provide a direct and continuous route connecting existing and planned major population/employment centers in the County of Riverside and the cities of Corona, Perris, and San Jacinto, a distance of approximately 51 kilometers (km) (32 miles [mi]). The project alternatives consist of five Build Alternatives (4, 5, 6, 7 and 9) and two No Build Alternatives (1A and 1B).

DATES: The comment period for the MCP Draft EIR/EIS will end 60 days after publication of the NOA in the Federal Register. The RCTC is hosting public informational meetings to provide the public with information about the Draft EIR/EIS. The public informational meetings will be held on October 28, 29, & 30, 2008 at the following locations, respectively: Eagle Glen Golf Course, 1800 Eagle Glen Parkway, Corona CA 92883; Perris Senior Center, 100 North D Street, Perris, CA 92570; and Valley Wide Recreation and Park District—Sport Center Meeting Room, 901 West Esplanade Avenue, San Jacinto, CA 92581. At these “open house” style meetings, you may attend anytime between 6 p.m. and 8 p.m. to view informational displays and the Draft EIR/EIS. The MCP project team will be available to discuss your questions, comments, and suggestions, one-on-one, regarding the proposed project.

In addition, the RCTC is holding two formal public hearings to accept public comments. These public hearings will be held on November 6, 2008 at 6 p.m. at the Perris City Council Chambers, 101 North D Street, Perris CA 92570 and November 12, 2008 at 9:30 a.m. at the RCTC—Board Room, 4080 Lemon Street, Main Floor, Riverside, CA 92501.

Contact/Address: Comments on the MCP Draft EIR/EIS can be mailed to the following addresses: Ms. Cathy Bechtel at RCTC, 4080 Lemon Street, 3rd Floor, Riverside, CA 92502 and/or Mr. Tay Dam, FHWA, 650 Capitol Mall, Suite 4-100, Sacramento, CA 95814, or via e-mail at: midcountyparkway.org.

FOR FURTHER INFORMATION CONTACT: Ms. Cathy Bechtel at RCTC: (951) 787-7141, or Mr. Tay Dam at FHWA: (213) 605-2013.

SUPPLEMENTARY INFORMATION: The MCP Draft EIR/EIS evaluates the environmental and socioeconomic effects of constructing and implementing the proposed MCP project. The purpose of the proposed MCP project is to provide a transportation parkway that would effectively and efficiently accommodate regional west-east movement of people and goods between and through Corona, Perris, and San Jacinto. The proposed MCP project is subject to federal, as well as local and State, environmental review requirements because the RCTC proposes the use of federal funds from the FHWA and/or the project requires a FHWA approval action. Project documentation, therefore, has been prepared in compliance with both the National Environmental Policy Act (NEPA) and the California Environmental Quality Act (CEQA). The RCTC is the project proponent and the lead agency under CEQA. Because of FHWA funding and/or approval, FHWA is lead agency under NEPA, with the Caltrans acting as its liaison and providing oversight for the NEPA process. Some potential project impacts determined to be significant under CEQA may not be considered significant under NEPA.

After comments are received from the public and reviewing agencies, the RCTC and the FHWA may undertake additional environmental and/or engineering studies. A Final EIR/EIS will include responses to comments received on the Draft EIR/EIS. Following preparation of the Final EIR/EIS, if the decision is made to approve the project, a Notice of Determination will be published for compliance with CEQA and a Record of Decision will be published for compliance with NEPA.

The MCP Alternatives evaluated in the Draft EIR/EIS include five Build Alternatives (4, 5, 6, 7 and 9) and two No Build Alternatives (1A and 1B). At its regular meeting of September 12, 2007, the RCTC Board approved identification of Alternative 9 with the Temescal Wash Design Variation (TWS DV) as the locally preferred alternative for the MCP project. However, the final selection of an alternative will not be made until after the consideration of public comments on the Draft EIR/EIS, and before approval of the Final EIR/EIS.

Alternative 1A represents 2035 traffic on the planned street network except for future improvements to Cajalco Road and Ramona Expressway, which would remain as they exist today. Construction of the MCP project would not be implemented with the No Project/No Action Alternative 1A. The future west-east traffic described in the study area would be served by the existing Cajalco Road and El Sobrante Road between I-15 and Interstate 215 (I-215) and by the existing Ramona Expressway between I-215 and SR-79. This alternative assumes 2035 land use conditions and implementation of planned improvements to the regional and local circulation system as accounted for in the adopted Riverside County General Plan (2003), RCTC's Measure A program, and other adopted plans and policies.

Alternative 1B represents 2035 traffic levels on the planned street network, according to the Circulation Element of the Riverside County General Plan. Construction of the MCP project would not be implemented with No Project/No Action Alternative 1B. This alternative is the same as Alternative 1A but includes the implementation of Cajalco Road and Ramona Expressway improvements consistent with the Riverside County General Plan Circulation Element.

Alternative 4 is a six-to eight-lane limited access parkway alternative. Alternative 4 is located south of Lake Mathews and follows a northerly alignment through Perris. This alternative would be located south of the existing Cajalco Road west of Lake Mathews Drive and located north of Ramona Expressway from I-215 to the Perris Drain, from where it follows the Perris Drain on an elevated structure southerly to Placentia Avenue. From that point, Alternative 4 continues east through the McCanna Hills, where it follows Ramona Expressway. Alternative 4 would connect to system-to-system interchanges at I-15, I-215, and SR-79.

Alternative 5 is a six-to eight-lane limited access parkway alternative. Alternative 5 is located south of Lake Mathews and follows a southerly alignment through Perris. This alternative is located south of the existing Cajalco Road west of Lake Mathews Drive and is located south of Ramona Expressway from I-215 (following Rider Street and Placentia Avenue) to just west of Antelope Road. From that point, Alternative 5 continues east where it follows Ramona Expressway. Alternative 5 would connect to system-to-system interchanges at I-15, I-215, and SR-79.

Alternative 6 involves the implementation of arterial improvements included in the Riverside County General Plan west of El Sobrante, including a six-lane arterial north of Lake Mathews and a four-lane limited access expressway south of Lake Mathews. East of El Sobrante, this alternative is the same as Alternative 4 described above, providing a new six-to eight-lane limited access parkway. The proposed arterial street improvements north and south of Lake Mathews are consistent with the Riverside County General Plan Circulation Element and generally follow the alignments shown in the General Plan.

Alternative 7 involves the implementation of arterial improvements included in the Riverside County General Plan west of El Sobrante, including a six-lane arterial north of Lake Mathews, a four-lane limited-access expressway south of Lake Mathews. East of El Sobrante, this alternative is the same as Alternative 5 described above, providing a new six-to eight-lane limited access parkway. The proposed arterial street improvements north and south of Lake Mathews are consistent with the Riverside County General Plan Circulation Element and generally follow the alignments shown in the General Plan.

Alternative 9 is a four-to six-lane controlled access parkway between I-15 and Old Elsinore Road, south of Lake Mathews and Mead Valley. The alternative is aligned south of Metropolitan Habitat Conservation Plan Reserve lands and traverses the Gavilan Hills area. From Old Elsinore Road to the I-215 interchange, Alternative 9 is a six-to eight-lane controlled access parkway. East of I-215, Alternative 9 follows Placentia Avenue; east of Evans Road, it follows a common alignment with Alternatives 4-7 through McCanna Hills and along Ramona Expressway. Alternative 9 is a six-to eight-lane controlled-access parkway between I-215 and SR-79. Alternative 9 would connect to system-to-system interchanges at I-15, I-215, and SR-79.

The Draft EIR/EIS and technical studies are available for viewing at the following locations during regular business hours: (1) RCTC, 4080 Lemon Street, 3rd Floor, Riverside, CA 92502; (2) FHWA, 650 Capitol Mall, Suite 4-100, Sacramento, CA 95814; (3) Caltrans District 8 Office —6th Floor, 464 W. 4th St., San Bernardino, CA 92401; (4) City of Corona—Public Works Department, 400 South Vicentia Avenue, 2nd Floor, Suite 210, Corona, CA 92882; (5) Corona Public Library, 650 S. Main St., Corona, CA 92882; (6) Perris Public Library, 163 E. San Jacinto Ave., Perris, CA 92507; (7) San Jacinto Public Library, 500 Idyllwild Dr., San Jacinto, CA 92583; (8) Woodcrest Library, 16625 Krameria, Riverside, CA 92504; and (9) Hemet Library, 300 E. Latham Avenue, Hemet, CA 92543. You may also view and comment on the Draft EIR/EIS at http://www.midcountyparkway.org.

Issued on: October 2, 2008.
Nancy E. Bobb,
Director of State Programs, Major Projects Program Manager, Federal Highway Administration, 650 Capitol Mall, Suite 4-100, Sacramento, CA 95814.

[FR Doc. E8-23805 Filed 10-10-08; 8:45 am]

BILLING CODE 4910-22-P